DEPARTMENT OF THE INTERIOR

Bureau of Land Management

[OR 120 5882 CC99; HAG# 04-171]

Notice of Public Meeting, Coos Bay Resource Advisory Committee Meeting

AGENCY: Bureau of Land Management, Interior.

ACTION: Notice of Bureau of Land Management (BLM) Coos Bay District Resource Advisory Committee (RAC) Meeting as identified in section 205 (f) (2) of the Secure Rural Schools and Community Self-Determination Act of 2000, Public Law 106-393 (the Act).

SUMMARY: The BLM Coos Bay District RAC is scheduled to meet on August 24, 2004, from 9 a.m. until 4 p.m. at the BLM Coos Bay District Office. The BLM Office is located at 1300 Airport Lane in North Bend, Oregon. The purpose of this meeting will be for the RAC to recommend for funding for Title II projects, as identified under Public Law 106-393. There will be an opportunity for the public to address the RAC at approximately 11 a.m. at this meeting. The RAC may also meet on August 25, 2004, for the same purpose. The need for this meeting will be dependent upon the progress made in making recommendations at the August 24th meeting. The scheduled meeting time and location for the August 25th meeting will be the same as for the meeting scheduled on August 24th.

FOR FURTHER INFORMATION CONTACT: Sue Richardson, District Manager, at 756-0100 or Glenn Harkleroad, District Restoration Coordinator, at 751-4361 or glenn_harkleroad@or.blm.gov. The mailing address for the BLM Coos Bay District Office is 1300 Airport Lane, North Bend, Oregon 97459.

SUPPLEMENTARY INFORMATION: Additional information about the Coos Bay RAC agenda can be found at

http://www.or.blm.gov/coosbay. A meeting agenda will be posted at this site as the meeting date nears.

Dated: May 3, 2004.
Sue E. Richardson,
Coos Bay District Manager.

[FR Doc. 04-10723 Filed 5-11-04; 8:45 am]

BILLING CODE 4310-33-P